DEPARTMENT OF COMMERCE

National Oceanic and Atmospheric Administration

[I.D. 040501B]

Submission for OMB Review; Comment Request.

SUPPLEMENTARY INFORMATION: The Department of Commerce has submitted to the Office of Management and Budget (OMB) for clearance the following proposal for collection of information under the provisions of the Paperwork Reduction Act (44 U.S.C. Chapter 35).

Agency: National Oceanic and Atmospheric Administration (NOAA).

Title: Small-Craft Facility Questionnaire.

Form Number(s): NOAA Form 77-1.

OMB Approval Number: 0648-0021.

Type of Request: Regular submission.

Burden Hours: 213.

Number of Respondents: 1,600.

Average Hours Per Response: 133 (8 minutes).

Needs and Uses: NOAA’s National Ocean Services produces nautical charts to ensure safe navigation. Small-craft charts are designed for recreational boaters and include information on local marine facilities and the services they provide (fuel, repairs, etc.). Information must be gathered from marinas to update the information provided to the public. Forms are sent to marinas when the relevant chart is to be updated. Forms are also made available at boat shows.

Affected Public: Business or other for-profit organizations.

Frequency: Annually.

Respondent’s Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: April 3, 2000.
Madeleine Clayton,
Departmental Paperwork Clearance Officer, Office of the Chief Information Officer.

[FR Doc. 01-8816 Filed 4-9-01; 8:45 am]

BILLING CODE 3510-22-S